COMMODITY FUTURES TRADING COMMISSION

Agricultural Advisory Committee Meeting

AGENCY: Commodity Futures Trading Commission.

ACTION: Notice of meeting.

SUMMARY: The Commodity Futures Trading Commission (CFTC or Commission) announces that the Agricultural Advisory Committee (AAC) will hold a public meeting. The Federal Advisory Committee Act and its implementing regulations require the Commission to provide notice of the meeting at least fifteen days in advance of the meeting through a Federal Register notice unless there are exceptional circumstances. The exceptional circumstances requiring less than fifteen days' notice are the COVID-19 pandemic.

DATES: The meeting will be held on Wednesday, April 22, 2020, from 3:00 p.m. to 5:00 p.m. Members of the public who wish to submit written statements in connection with the meeting should submit them by May 1, 2020.

ADDRESSES: You may submit public comments by either one of the following methods:

• CFTC Comments Portal: https://comments.cftc.gov. Select the “Submit Comments” link for this meeting notice and follow the instructions on the Public Comment Form.

• Email: Send to Christopher J. Kirkpatrick, Secretary of the Commission, Secretary@cftc.gov, identified with the subject “Agricultural Advisory Committee.”

Please submit your comments using only one of these methods. Submissions through the CFTC Comments Portal are encouraged. Any statements submitted in connection with the committee meeting will be made available to the public, including by publication on the CFTC website, https://www.cftc.gov. If you are unable to submit comments online, contact the individual listed below to discuss alternate means of submitting your comments.

FOR FURTHER INFORMATION CONTACT: Summer Mersinger, AAC Designated Federal Officer, Commodity Futures Trading Commission, Three Lafayette Centre, 1155 21st Street NW, Washington, DC 20581; phone: 202-418-5075; email: SMersinger@cftc.gov.

SUPPLEMENTARY INFORMATION: At this meeting, the AAC will hear remarks from the United States Department of Agriculture, Designated Contract Markets, and the CFTC on their respective responses to the COVID-19 pandemic, as well as solicit actionable recommendations for the Commission related to work streams and select issues. The agenda for this meeting will be available to the public and posted on the Commission's website at http://www.cftc.gov/About/CFTCCommittees/AgriculturalAdvisory/aac_meetings.

The meeting agenda may change to accommodate other AAC priorities. For agenda updates and instructions to access the meeting via phone and the internet (forthcoming), please visit the AAC committee site at: http://www.cftc.gov/About/CFTCCommittees/AgriculturalAdvisory/aac_meetings.

Instructions for public access to the live audio feed of the meeting will be posted on the Commission's website prior to the event. Members of the public may also listen to the public meeting by telephone by calling a domestic toll-free telephone or international toll or toll-free number, which will be posted on the CFTC's website, https://www.cftc.gov, on the page for the meeting, under Related Links to connect to a live, listen-only audio feed. Call-in participants should be prepared to provide their first name, last name, and affiliation. In the event that the time, date, or place of this meeting changes, an announcement of the change, along with the new time, date, or place of the meeting, will be posted on the Commission's website.

After the meeting, a transcript of the meeting will be published through a link on the CFTC's website at: http://www.cftc.gov/About/CFTCCommittees/AgriculturalAdvisory/aac_meetings. All written submissions provided to the CFTC in any form will also be published on the CFTC's website. Persons requiring special accommodations to attend the meeting because of a disability should notify the contact person above as soon as possible.

(Authority: 5 U.S.C. App. 2 section 10(a)(2).)

Dated: April 15, 2020.
Robert Sidman,
Deputy Secretary of the Commission.

[FR Doc. 2020-08313 Filed 4-20-20; 8:45 am]

BILLING CODE 6351-01-P